DEPARTMENT OF AGRICULTURE

Food and Nutrition Service

Submission for OMB Review; Comment Request

August 8, 2016.

The Department of Agriculture has submitted the following information collection requirement(s) to OMB for review and clearance under the Paperwork Reduction Act of 1995, Public Law 104-13. Comments are requested regarding (1) whether the collection of information is necessary for the proper performance of the functions of the agency, including whether the information will have practical utility; (2) the accuracy of the agency's estimate of burden including the validity of the methodology and assumptions used; (3) ways to enhance the quality, utility and clarity of the information to be collected; and (4) ways to minimize the burden of the collection of information on those who are to respond, including through the use of appropriate automated, electronic, mechanical, or other technological collection techniques or other forms of information technology.

Comments regarding this information collection received by September 12, 2016 will be considered. Written comments should be addressed to: Desk Officer for Agriculture, Office of Information and Regulatory Affairs, Office of Management and Budget (OMB), OIRA_Submission@omb.eop.gov or fax (202) 395-5806 and to Departmental Clearance Office, USDA, OCIO, Mail Stop 7602, Washington, DC 20250-7602. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Food and Nutrition Service

Title: Erroneous Payments in Child Care Centers Study (EPICCS).

OMB Control Number: 0584-NEW.

Summary of Collection: The Child and Adult Care Food Program (CACFP), administered by the Food and Nutrition Service (FNS), is authorized at Section 17 of the National School Lunch Act (42 U.S.C. 1766). The CACFP supports day care centers through reimbursements of costs for serving nutritious meals and snacks to eligible children and adults. The Improper Payments Information Act (IPIA) of 2002 (Pub. L. 107-300) set annual requirements for Federal programs, such as CACFP, to report estimates of improper payments in an effort to improve program integrity. Further guidance was provided in a 2009 Executive Order and by the Improper Payments Elimination and Recovery Act (IPERA) of 2010 (Pub. L. 111-204) and the Improper Payments Elimination and Recovery Improvement Act (IPERIA) of 2012 (Pub. L. 112-248), which amended and expanded IPIA requirements. In order to comply with reporting requirements concerning improper payments, FNS is conducting the Erroneous Payments in Child Care Centers Study (EPICCS). This study will focus on CACFP operations in participating child care centers and their sponsoring organizations. This study is necessary for FNS's annual compliance with IPERA in the child care center component of CACFP.

Need and Use of the Information: The data collected from EPICCS will be used to produce national estimates of improper or erroneous payments in the child care center component of the CACFP resulting from certification, aggregation, and meal claiming errors; to develop models for calculating annual, national estimates for all three types of errors; and to describe methodologies for generating State-level erroneous payment estimates in a White Paper. FNS will also use the data to fulfill reporting requirements under IPERA to annually measure and report erroneous payments in the CACFP, to identify the sources of erroneous payments, and to inform its policy-making and regulatory processes for maintenance and improvements in program integrity.

Description of Respondents: Individuals or households, Businesses or other for-profits, Not-for profit institutions, and State, Local, or Tribal Government.

Number of Respondents: 8,942.

Frequency of Responses: Reporting: Annually.

Total Burden Hours: 13,906.

Ruth Brown,
Departmental Information Collection Clearance Officer.

[FR Doc. 2016-19088 Filed 8-10-16; 8:45 am]

BILLING CODE 3410-30-P